DEPARTMENT OF THE INTERIOR

Bureau of Land Management

[UT-020-00-5101-ER-J206, U-76985]

Notice of Availability of a Draft Environmental Impact Statement and Proposed Plan Amendment to the Pony Express Resource Management Plan (RMP)

AGENCY: Bureau of Land Management, Interior.

ACTION: Notice of Availability of a Draft Environmental Impact Statement and Proposed Plan Amendment to the Pony Express Resource Management Plan (RMP).

SUMMARY: Pursuant to section 102(2)(c) of the National Environmental Policy Act of 1969, the Bureau of Land Management (BLM), Salt Lake Field Office, Utah announces the availability of a Draft Environmental Impact Statement (DEIS) and plan amendment to the Transportation and Corridor Decision of the Pony Express RMP.

On April 15, 1999 the Salt Lake Field Office published in the Federal Register a notice of intent to conduct a plan amendment to the RMP. Further, the notice indicated that BLM was a cooperating agency with the Nuclear Regulatory Commission (NRC), lead agency for the DEIS. The NRC is publishing a separate notice for the DEIS, “Draft Environmental Impact Statement for the Construction and Operation of an Independent Spent Nuclear Fuel Storage Installation on the Reservation of the Skull Valley Band of Goshute Indians and the Related Transportation Facility in Tooele County, Utah” NUREG-1714, June 2000, regarding the proposal of Private Fuel Storage, L.L.C. (PFS) to construct and operate an independent spent fuel storage installation (ISFSI) on the Reservation of the Skull Valley Band of Goshute Indians. BLM intends to adopt the EIS as a basis for its plan amendment decision.

DATES: Comments on the land use plan amendment and DEIS will be accepted though September 21, 2000. Public meetings concerning both the DEIS and plan amendment will be held at the following locations and dates:

—July 27, 2000, Little America Inn, Arizona Room, 500 S. Main Street, Salt Lake City, UT, from 7-10 p.m.

—July 28, 2000, Grantsville Middle School, 318 S. Hale Street, Grantsville, UT, from 7-10 p.m.

ADDRESSES: Comments on the proposed BLM plan amendment and the DEIS should be sent to Chief, Rules Review and Directives Branch, Division of Freedom of Information and Publications Services, Office of Administration, Mailstop T-6D-59, U.S. Nuclear Regulatory Commission, Washington, DC 20555-0001. All comments received by the NRC, including those made by Federal, State, and local agencies, Indian tribes, or other interested persons, will be made available for public inspection at the NRC's Public Document Room in Washington, DC.

The DEIS is available for public inspection and duplication at the NRC's Public Document Room at the Gelman Building, 2120 L Street, NS, Washington, DC. The DEIS will be available for review on the NRC Web site, and a comment form will be available for those who wish to submit comments. Upon written request and to the extent supplies are available, a single copy of the draft report can be obtained for free by writing to the Office of the Chief Information Officer, Reproduction and Distribution Services Section, U.S. Nuclear Regulator Commission, Washington, DC 20555-0001; by e-mail (Distribution@NRC.gov); or by fax at (301) 415-2289. Comments, including names and street addresses of respondents, will be available for public review at the BLM Salt Lake Field Office and will be subject to disclosure under the Freedom of Information Act (FOIA). They may be published as part of the Final EIS and other related documents. Individual respondents may request confidentiality. If you wish to withhold your name or street address from public review and disclosure under the FOIA, you must state this prominently at the beginning of your written comment. Such requests will be honored to the extent allowed by law. All submissions from organizations or businesses, will be made available for public inspection in their entirely.

FOR FURTHER INFORMATION CONTACT: For information on the BLM plan amendment contact Alice Stephenson, BLM Project Leader, telephone (801) 977-4317. Existing planning documents and information are available at the above address.

SUPPLEMENTARY INFORMATION: PFS intends to transport spent nuclear fuel (SNF) by rail from commercial power reactor sites to an existing rail line north of Skull Valley. To transport the SNF from the existing rail line to the proposed facility, PFS proposes the construction and operation of a rail siding and rail line from Skunk Ridge (near Low, Utah) to the site of the ISFSI on the Reservation. This DEIS discusses the purpose and need for the PFS proposal and describes the proposed action and its reasonable alternatives. The PFS proposal requires approval from four federal agencies, NRC, Bureau of Indian Affairs (BIA), Surface Transportation Board (STB), and BLM. The BLM decision to grant a right-of-way to PFS would be dependent upon the decisions made by the NRC and BIA. If the NRC issues a license to PFS for the proposed facility and BIA approves the lease, then BLM's preferred alternative would be to amend the Pony Express RMP and issue a right-of-way for the Skunk Ridge rail siding and rail line.

Sally Wisely,
State Director.

[FR Doc. 00-15586 Filed 6-22-00; 8:45 am]

BILLING CODE 4310-$$-P